DEPARTMENT OF TRANSPORTATION

Federal Aviation Administration

Notice of Passenger Facility Charge (PFC) Approvals and Disapprovals

AGENCY: Federal Aviation Administration (FAA), DOT.

ACTION: Monthly Notice of PFC Approvals and Disapprovals. In May 2005, there were three applications approved. This notice also includes information on two applications, approved in April 2005, inadvertently left off the April 2005 notice. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph (d) of § 158.29.

PFC Applications Approved

Public Agency: County of Emmet, Pellston, Michigan.

Application Number: 05-10-C-00-PLN.

Application Type: Impose and use a PFC.

PFc Level: $4.50.

Total PFC Revenue Approved in This Decision: $280,750.

Earliest Charge Effective Date: July 1, 2011.

Estimated Charge Expiration Date: July 1, 2013.

Class of Air Carriers Not Require to Collect PFC's: Air taxi/commercial operators filing FAA Form 1800-31.

Determination: Approved. Based on information contained in the public agency's application, the FAA has determined that the proposed class accounts for less than 1 percent of the total annual enplanements at Pellston Regional Airport.

Brief Description of Projects Approved for Collections and Use:

Apron expansion of the north.

Terminal are drainage improvements.

Reconstruction of apron.

Animal control/security fencing.

Parking lot rehabilitation and reconstruction.

Snow removal equipment: two plow trucks with sanders.

Land acquisition—Ely Road.

Relocation of Ely Highway.

Purchase runway snow sweeper.

Purchase a snow blower.

Purchase a front end loader.

Master plan study.

Purchase of a generator.

Apron expansion of the south.

Expansion of general aviation terminal building.

Decision Date: April 28, 2005.

FOR FURTHER INFORMATION CONTACT: Jason Watt, Detroit Airports District Office, (734) 229-2906.

Public Agency: City of Eugene, Oregon.

Application Number: 05-06-C-00-EUG.

Application Type: Impose and use a PFC.

PFC Level: $4.50.

Total PFC Revenue Approved in This Decision: $2,400,000.

Earliest Charge Effective Date: July 1, 2005.

Estimated Charge Expiration Date: September 1, 2007.

Classes of Air Carriers Not Required to Collect PFC'S: (1) Operations by air taxi/commercial operators utilizing aircraft having a maximum seating capacity of less than 20 passengers when enplaning revenue passengers in a limited, irregular/non-scheduled, or special service manner; (2) operations by air taxi/commercial operators without regard to seating capacity for revenue passengers transported for student instruction, non-stop sightseeing flights that begin and end at the airport and are conducted within a 25-mile radius of the same airport, firefighting charters, ferry or training flights, air ambulance/medical evacuation flights, and aerial photography or survey flights.

Determination: Approved. Based on information contained in the public agency's application, the FAA has determined that each proposed class accounts for less than 1 percent of the total annual enplanements at Mahlon Sweet Field—Eugene Airport.

Brief Description of Project Approved for Collection and Use: Terminal rehabilitation.

Decision Date: April 29, 2005.

FOR FURTHER INFORMATION CONTACT: Suzanne Lee-Pang, Seattle Airports District Office, (425) 227-2654.

Public Agency: Dallas-Fort Worth International Airport Board, Dallas-Fort Worth, Texas.

Application Number: 05-08-C-00-DFW.

Application Type: Impose and use a PFC.

PFC Level: $4.50.

Total PFC Revenue Approved in This Decision: $2,892,040,000.

Earliest Charge Effective Date: August 1, 2017.

Estimated Charge Expiration Date: December 1, 2032.

Class of Air Carriers Not Required to Collect PFC'S: All air taxi/commercial operators.

Determination: Approved. Based on information contained in the public agency's application, the FAA has determined that the proposed class accounts for less than 1 percent of the total annual enplanements at Dallas-Forth Worth International Airport.

Brief Description of Projects Approved for Collection and Use at a $4.50 PFC Level:

Construct terminal D apron and associated development.

Construct terminal D.

Construct terminal D access roads.

Acquire and demolish hotel.

Brief Description of Projects Approved for Collection and Use at a $3.00 PFC Level:

Mitigate runway 17L/35R wetlands.

Construct terminal D major storm drain.

Install surface movement guidance and control system.

Construct three terminal D skybridges.

Modify central utilities plant.

Install SkyLink flight information display system.

Reconstruct taxiway K.

Decision Date: May 4. 2005.

FOR FURTHER INFORMATION CONTACT: G. Thomas Wade, Southwest Region Airports Division, (817) 222-5613.

Public Agency: Yakima Air Terminal Board, Yakima, Washington.

Application Number: 05-09-C-00-YKM.

Application Type: Impose and use a PFC.

PFC Level: $3.00.

Total PFC Revenue Approved in This Decision: $198,184.

Earliest Charge Effective Date: August 1, 2005.

Estimated Charge Expiration Date: August 1, 2006.

Class of Air Carriers Not Required to Collect PFC'S: Air taxi/commercial operators.

Determination: Approved. Based on information contained in the public agency's application, the FAA has determined that the proposed class accounts for less than 1 percent of the total annual enplanements at Yakima Air Terminal-McAllister Field.

Brief Description of Projects Approved for Collection and Use:

Construct west general aviation/air freight ramp.

Purchase aircraft rescue and firefighting vehicle, Index B.

Develop sign and marking plan.

Wildlife management plan.

Relocate runway hold position signs.

Pavement maintenance program, crack seal.

Obstruction removal.

Decision Date: May 17, 2005.

FOR FURTHER INFORMATION CONTACT: Suzanne Lee-Pang, Seattle Airports District Office, (425) 227-2654.

Public Agency: Parish of East Baton Rouge/City of Baton Rouge, Baton Rouge, Louisiana.

Application Number: 05-06-C-00-BTR.

Application Type: Impose and use a PFC.

PFC Level: $4.50.

Total PFC Revenue Approved in This Decision: $9,986,100.

Earliest Charge Effective Date: November 1, 2021.

Estimated Charge Expiration Date: March 1, 2026.

Class of Air Carriers Not Required to Collect PFC's: Part 135 air taxi/commercial operators filing FAA Form 1800-31.

Determination: Approved. Based on information contained in the public agency's application, the FAA has determined that the proposed class accounts for less than 1 percent of the total annual enplanements at Baton Rouge Metropolitan Airport.

Brief Description of Projects Approved for Collection and Use:

Extend runway 4L/22R.

Professional fees.

Expand general aviation apron.

Decision Date: May 19, 2005.

FOR FURTHER INFORMATION CONTACT: G. Thomas Wade, Southwest Region Airports Division, (817) 222-5613.

Amendment to PFC Approvals
Amendment No. city, state | Amendment approved date | Original approved net PFC revenue | Amended approved net PFC revenue | Original estimated charge exp. date | Amended estimated charge exp. date
*01-08-C-01-CMX, Hancock, MI | 04/14/05 | $254,644 | $254,644 | 10/01/05 | 08/01/05
03-09-C-01-CMX, Hancock, MI | 04/14/05 | 104,266 | 104,266 | 05/01/07 | 09/01/06
93-01-C-01-FCA, Kalispell, MI | 04/27/05 | 1,211,000 | 1,027,388 | 11/01/99 | 04/01/98
01-01-C-01-SBY, Salisbury, MD | 04/28/05 | 440,892 | 507,026 | 07/01/05 | 10/01/05
98-02-C-01-IDA, Idaho Falls, ID | 05/02/05 | 820,404 | 836,239 | 11/01/00 | 10/01/00
00-03-C-01-BIL, Billings, MT | 05/03/05 | 4,153,600 | 5,163,262 | 10/01/05 | 05/01/06
02-02-C-02-AVL, Asheville, NC | 05/04/05 | 4,936,653 | 4,936,653 | 11/01/06 | 11/01/06
00-05-C-01-CLM, Port Angeles, WA | 05/06/05 | 211,683 | 198,350 | 10/01/03 | 10/01/03
00-03-C-03-MSO, Missoula, MT | 05/10/05 | 2,500,000 | 2,500,000 | 12/01/04 | 12/01/04
(Note: The amendment denoted by an asterisk (*) include a change to the PFC level charged from $3.00 per enplaned passenger to $4.50 per enplaned passenger. For Hancock, MI, this change is effective on July 1, 2005.)

Issued in Washington, DC on November 15, 2005.
Joe Hebert,
Manager, Financial Analysis and Passenger Facility Charge Branch.

[FR Doc. 05-23305 Filed 11-25-05; 8:45 am]

BILLING CODE 4910-13-M